DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Application for the Reviewer Contact Information Form (OMB No. 0930-0255)

Section 501(h) of the Public Health Service (PHS) Act (42 U.S.C. 290aa) directs the Assistant Secretary of SAMHSA to establish such peer review groups as are needed to carry out the requirements of Title V of the PHS Act. SAMHSA administers a large discretionary grants program under authorization of Title V, and, for many years, SAMHSA has funded grants to provide prevention and treatment services related to substance abuse and mental health. In support of its grant peer review efforts, SAMHSA desires to continue to expand the number and types of reviewers it uses on these grant review committees. To accomplish that end, SAMHSA has determined that it is important to proactively seek the inclusion of new and qualified representatives on its peer review groups. Accordingly, SAMHSA has developed an application form for use by individuals who wish to apply to serve as peer reviewers.

The application form has been developed to capture the essential information about the individual applicants. The most consistent method to accomplish this is through completion of a standard form by all interested persons which captures information about knowledge, education, and experience in a consistent manner from all interested applicants. SAMHSA will use the information provided on the form to identify appropriate peer grant reviewers. Depending on their experience and qualifications, applicants may be invited to serve as grant reviewers.

The following changes are proposed in the form:

1. Added Federally Qualified Health Centers (FQHC), Technical Training Centers (TTC) and Certified Community Behavioral Health Clinics (CCBHC) in the Affiliations Section—Office of Behavioral Health Equity (OBHE) Recommendation

2. Changed to “Prefer not to Answer” in the Gender section—OBHE Recommendation

3. Added High School and Certificate to Education section—OBHE Recommendation

4. Changed Alaskan Native/American Indian to American Indian/Alaskan Native and added “Mixed Race” in the Race section—OBHE and Tribal Office Recommendation

5. Added “No License” in the License section—OBHE Recommendation

6. Added “Tribal Health System” and “Screening/Prevention/Emergency Preparedness” in the Secondary Expertise section— OBHE and Tribal Office Recommendation

7. Added “Peer Experience/Lived Experience” in the Secondary Expertise section—OBHE Recommendation

8. Added “Junior Reviewer” and “Community Reviewer” to Grant Review Experience section—OBHE Recommendation

9. Added the SAMHSA Values Statement at the end of the form—OBHE Recommendation

The following table shows the annual response burden estimate.

Number of respondents | Responses/ respondent | Burden/ responses (hours) | Total burden hours
500 | 1 | 1.5 | 750

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2022-16903 Filed 8-5-22; 8:45 am]

BILLING CODE 4162-20-P